DEPARTMENT OF THE INTERIOR

Bureau of Land Management

[OR 120 5882 CD99; 3-0159]

Notice of Public Meeting, Coos Bay Resource Advisory Committee Meeting

AGENCY: Bureau of Land Management, Interior.

ACTION: Notice of Bureau of Land Management (BLM) Coos Bay District Resource Advisory Committee (RAC) Meeting as identified in section 205 (f) (2) of the Secure Rural Schools and Community Self-Determination Act of 2000, Public Law 106-393 (the Act).

SUMMARY: The BLM Coos Bay District RAC will be meeting on May 30, 2003 from 9 a.m. until 12:30 p.m. at the BLM Coos Bay District Office. The Coos Bay District Office is located at 1300 Airport Lane in North Bend, Oregon. The purpose of this meeting will be to review the progress of previously funded projects, elect a new Chairperson, present the RAC with this year's projects to be reviewed for funding, and provide an opportunity for dialogue between the RAC, the Bureau, and the public.

FOR FURTHER INFORMATION CONTACT: Sue Richardson, District Manager, at 756-0100 or Glenn Harkleroad, District Restoration Coordinator, at 751-4361 or glenn_harkleroad@or.blm.gov. The mailing address for the BLM Coos Bay District Office is 1300 Airport Lane, North Bend, Oregon 97459.

SUPPLEMENTARY INFORMATION: Additional information about the Coos Bay RAC and a meeting agenda can be found at http://www.or.blm.gov/coosbay.

Dated: May 2, 2003.
Sue E. Richardson,
Coos Bay District Manager.

[FR Doc. 03-11494 Filed 5-8-03; 8:45 am]

BILLING CODE 4310-33-P